DEPARTMENT OF ENERGY

Federal Energy Regulatory Commission

[Docket No. CP10-30-000]

Port Barre Investments, LLC (d/b/a Bobcat Gas Storage); Notice of Amendment Application

December 22, 2009.

On December 15, 2009, Bobcat Gas Storage (Bobcat), pursuant to section 7(c) of the Natural Gas Act, as amended, and parts 157 and 284 of the Federal Energy Regulatory Commission's (Commission) regulations, filed to amend its certificate. The requested amendment would expand the Bobcat Gas Storage Project certificated in CP09-19-000 on March 19, 2009, to add working gas capacity totaling 9.3 billion cubic feet (Bcf) in two existing plus three new salt dome storage caverns. The amendment would expand total storage project working gas capacity to 48.9 Bcf. No construction is proposed in Bobcat's application. Bobcat also requests that the Commission reaffirm its market-based rates authorization and issue all requested authorizations on or before March 31, 2010.

Questions regarding this application should be directed to Paul Bieniawski, Bobcat Gas Storage, 11200 Westheimer, Suite 625, Houston, TX 77042, (713) 800-3535 or Lisa Tonery, Fulbright & Jaworski L.L.P., 666 Fifth Avenue, New York, NY 10103, (212) 318-3009.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 12, 2010.

Kimberly D. Bose,
Secretary.

[FR Doc. E9-30814 Filed 12-28-09; 8:45 am]

BILLING CODE 6717-01-P